DEPARTMENT OF COMMERCE

International Trade Administration

[A-523-808]

Certain Steel Nails From the Sultanate of Oman: Final Results of Antidumping Duty Administrative Review; 2019-2020

AGENCY: Enforcement and Compliance, International Trade Administration, Department of Commerce.

SUMMARY: The Department of Commerce (Commerce) determines that Oman Fasteners LLC (Oman Fasteners) made sales of subject merchandise below normal value. The period of review (POR) is July 1, 2019, through June 30, 2020.

DATES: Applicable November 29, 2021.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On June 1, 2021, Commerce published the preliminary results of the administrative review of the antidumping duty (AD) order on certain steel nails (steel nails) from the Sultanate of Oman (Oman).¹ For a history of events that have occurred since the Preliminary Results, see the Issues and Decision Memorandum.²

¹ See Certain Steel Nails from the Sultanate of Oman: Preliminary Results of Antidumping Duty Administrative Review and Partial Rescission of Antidumping Duty Administrative Review; 2019-2020, 86 FR 29244 (June 1, 2021) (Preliminary Results), and accompanying Preliminary Decision Memorandum (PDM).

² See Memorandum, “Issues and Decision Memorandum for the Final Results of the 2019-2020 Administrative Review of the Antidumping Duty Order on Certain Steel Nails from the Sultanate of Oman,” dated concurrently with, and hereby adopted by, this notice (Issues and Decision Memorandum).

Scope of the Order

The merchandise covered by the antidumping duty order is certain steel nails. For a complete description of the scope of the order, see the Issues and Decision Memorandum.

Analysis of Comments Received

Commerce addressed all issues raised in the case and rebuttal briefs in the Issues and Decision Memorandum. These issues are identified in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at https://access.trade.gov/public/FRNoticesListLayout.aspx.

Changes Since the Preliminary Results

Based on our analysis of the comments received, we have made one change to the margin calculation for Oman Fasteners since the Preliminary Results. We have recalculated the constructed value (CV) profit ratio for the final results.³

³ See Issues and Decision Memorandum at Comment 2; see also Memorandum, “Final Results of the Fifth Antidumping Duty Administrative Review of Certain Steel Nails from the Sultanate of Oman: Final Analysis Memorandum for Oman Fasteners, LLC,”, dated concurrently with this notice (Final Analysis Memorandum).

Final Results of Review

As a result of this administrative review, we determine the following weighted-average dumping margin for the period July 1, 2019, through June 30, 2020:

Manufacturer/exporter | Weighted-average margin (percent)
Oman Fasteners LLC | 1.65

Disclosure

Commerce intends to disclose the calculations performed for Oman Fasteners in these final results to interested parties within five days of the date of publication of this notice in the Federal Register, in accordance with 19 CFR 351.224(b).

Assessment

Pursuant to section 751(a)(2)(C) of the Tariff Act of 1930, as amended (the Act), Commerce shall determine, and U.S. Customs and Border Protection (CBP) shall assess, antidumping duties on all appropriate entries of subject merchandise in accordance with the final results of this administrative review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Where the respondent reported reliable entered values, Commerce calculated importer- (or customer-) specific ad valorem rates by aggregating the dumping margins calculated for all U.S. sales to each importer (or customer) and dividing this amount by the total entered value of the sales to each importer (or customer).⁴ Where Commerce calculated a weighted-average dumping margin by dividing the total amount of dumping for reviewed sales to that party by the total sales quantity associated with those transactions, Commerce will direct CBP to assess importer- (or customer-) specific assessment rates based on the resulting per-unit rates.⁵ Where an importer- (or customer-) specific ad valorem or per-unit rate is greater than de minimis (i.e., 0.50 percent), Commerce will instruct CBP to collect the appropriate duties at the time of liquidation.⁶ Where an importer- (or customer-) specific ad valorem or per-unit rate is zero or de minimis, Commerce will instruct CBP to liquidate appropriate entries without regard to antidumping duties.⁷

⁴ See 19 CFR 351.212(b)(1).

⁵ Id.

⁶ Id.

⁷ See 19 CFR 351.106(c)(2).

In accordance with Commerce's “automatic assessment” practice, for entries of subject merchandise that entered the United States during the POR that were produced by Oman Fasteners for which the respondent did not know that its merchandise was destined to the United States, Commerce will instruct CBP to liquidate unreviewed entries at the all-others rate of 9.10 percent,⁸ if there is no rate for the intermediate company(ies) involved in the transaction.⁹

⁸ See Certain Steel Nails from the Sultanate of Oman: Final Determination of Sales at Less Than Fair Value, 80 FR 28972 (May 20, 2015) (Investigation Final Determination).

⁹ For a full discussion of this practice, see Antidumping and Countervailing Duty Proceedings: Assessment of Antidumping Duties, 68 FR 23954 (May 6, 2003).

Cash Deposit Requirements

The following cash deposit requirements will be effective upon publication of the notice of the final results of this administrative review for all shipments of steel nails from Oman entered, or withdrawn from warehouse, for consumption on or after the date of publication of the final results in the Federal Register, as provided by section 751(a)(2)(C) of the Act: (1) For the companies covered by this review, the cash deposit rate will be the rates listed above in the section “Final Results of Review”; (2) for merchandise exported by producers or exporters not covered in this administrative review but covered in a prior segment of the proceeding, the cash deposit rate will continue to be the company-specific rate published in a completed segment for the most recent period of review; (3) if the exporter is not a firm covered in this review or in the original investigation, but the producer is, the cash deposit rate will be the rate established for the most recently completed segment of this proceeding for the producer of the merchandise; and (4) the cash deposit rate for all other producers or exporters will continue to be 9.10 percent, the all-others rate established in the investigation.¹⁰ These cash deposit requirements, when imposed, shall remain in effect until further notice.

¹⁰ See Investigation Final Determination.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these final results in accordance with sections 751(a)(1) and 777(i)(1) of the Act, and 19 CFR 351.221(b)(5).

Dated: November 22, 2021.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Determining the Appropriate Basis for Constructed Value (CV) Financial Ratios

Comment 2: Whether to Revise the CV Profit Ratio

Comment 3: Whether to Revise the CV Indirect Selling Expense (ISE) Ratio

Comment 4: Whether the Applied Average-to-Transaction Method is Flawed

VI. Recommendation

[FR Doc. 2021-25933 Filed 11-26-21; 8:45 am]

BILLING CODE 3510-DS-P